NATIONAL ARCHIVES AND RECORDS ADMINISTRATION

Agency Information Collection Activities: Submission for OMB Review; Comment Request

AGENCY: National Archives and Records Administration (NARA).

ACTION: Notice.

SUMMARY: NARA is giving public notice that the agency has submitted to OMB for approval the information collection described in this notice. The public is invited to comment on the proposed information collection pursuant to the Paperwork Reduction Act of 1995.

DATES: Written comments must be submitted to OMB at the address below on or before July 1, 2011 to be assured of consideration.

ADDRESSES: Send comments to Mr. Nicholas A. Fraser, Desk Officer for NARA, Office of Management and Budget, New Executive Office Building, Washington, DC 20503; fax: 202-395-5167; or electronically mailed to Nicholas_A._Fraser@omb.eop.gov.

FOR FURTHER INFORMATION CONTACT: Requests for additional information or copies of the proposed information collection and supporting statement should be directed to Tamee Fechhelm at telephone number 301-837-1694 or fax number 301-713-7409.

SUPPLEMENTARY INFORMATION: Pursuant to the Paperwork Reduction Act of 1995 (Pub. L. 104-13), NARA invites the general public and other Federal agencies to comment on proposed information collections. NARA published a notice of proposed collection for this information collection on March 16, 2011 (76 FR 14433 and 14434). No comments were received. NARA has submitted the described information collections to OMB for approval.

In response to this notice, comments and suggestions should address one or more of the following points: (a) Whether the proposed information collections are necessary for the proper performance of the functions of NARA; (b) the accuracy of NARA's estimate of the burden of the proposed information collections; (c) ways to enhance the quality, utility, and clarity of the information to be collected; and (d) ways to minimize the burden of the collection of information on respondents, including the use of information technology; and (e) whether small businesses are affected by these collections. In this notice, NARA is soliciting comments concerning the following information collections:

1. Title: Presidential Library Facilities.

OMB Number: 3095-0036.

Agency Form Number: None.

Type of Review: Regular.

Affected Public: Presidential library foundations or other entities proposing to transfer a Presidential library facility to NARA.

Estimated Number of Respondents: 1.

Estimated Time per Response: 31 hours.

Frequency of Response: On occasion.

Estimated Total Annual Burden Hours: 31 hours.

Abstract: The information collection is required for NARA to meet its obligations under 44 U.S.C. 2112(a)(3) to submit a report to Congress before accepting a new Presidential library facility. The report contains information that can be furnished only by the foundation or other entity responsible for building the facility and establishing the library endowment.

2. Title: Forms Relating to Military Service Records.

OMB Number: 3095-0039.

Agency Form Number: NA Forms 13036, 13042, 13055, and 13075.

Type of Review: Regular.

Affected Public: Veterans, their authorized representatives, state and local governments, and businesses.

Estimated Number of Respondents: 79,800.

Estimated Time per Response: 5 minutes.

Frequency of Response: On occasion (when respondent wishes to request information from a military personnel, military medical, and dependent medical record).

Estimated Total Annual Burden Hours: 6,650 hours.

Abstract: The information collection is prescribed by 36 CFR 1228.162. In accordance with rules issued by the Department of Defense (DoD) and the Department of Transportation (DoT, U.S. Coast Guard), the National Personnel Records Center (NPRC) of the National Archives and Records Administration (NARA) administers military personnel and medical records of veterans after discharge, retirement, and death. In addition, NPRC administers the medical records of dependents of service personnel. When veterans, dependents, and other authorized individuals request information from or copies of documents in military personnel, military medical, and dependent medical records, they must provide on forms or in letters certain information about the veteran and the nature of the request. A major fire at the NPRC on July 12, 1973, destroyed numerous military records. If individuals' requests involve records or information from records that may have been lost in the fire, requesters may be asked to complete NA Form 13075, Questionnaire about Military Service, or NA Form 13055, Request for Information Needed to Reconstruct Medical Data, so that NPRC staff can search alternative sources to reconstruct the requested information. Requesters who ask for medical records of dependents of service personnel and hospitalization records of military personnel are asked to complete NA Form 13042, Request for Information Needed to Locate Medical Records, so that NPRC staff can locate the desired records. Certain types of information contained in military personnel and medical records are restricted from disclosure unless the veteran provides a more specific release authorization than is normally required. Veterans are asked to complete NA Form 13036, Authorization for Release of Military Medical Patient Records, to authorize release to a third party of a restricted type of information found in the desired record.

3. Title: NARA Visitors Study.

OMB Number: 3095-0067.

Agency Form Number: N/A.

Type of Review: Regular.

Affected Public: Individuals who visit the National Archives Experience in Washington, DC.

Estimated Number of Respondents: 200.

Estimated Time per Response: 12 minutes.

Frequency of Response: On occasion (when an individual visits the National Archives Experience in Washington, DC).

Estimated Total Annual Burden Hours: 40 hours.

Abstract: The general purpose of this voluntary data collection is to benchmark the performance of the NAE in relation to other history museums. Information collected from visitors assesses the overall impact, expectations, presentation, logistics, motivation, demographic profile and learning experience. Once analysis is done, this collected information assists NARA in determining the NAE's success in achieving its goals.

Dated: May 25, 2011.
Michael L. Wash,
Assistant Archivist for Information Services/CIO.

[FR Doc. 2011-13557 Filed 5-31-11; 8:45 am]

BILLING CODE 7515-01-P